DEPARTMENT OF DEFENSE

GENERAL SERVICES ADMINISTRATION

NATIONAL AERONAUTICS AND SPACE ADMINISTRATION

[OMB Control No. 9000-0157; Docket No. 2023-0053; Sequence No. 7]

Submission for OMB Review; Architect-Engineer Qualifications (SF-330)

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding architect-engineer qualifications (Standard Form (SF) 330).

DATES: Submit comments on or before December 14, 2023.

ADDRESSES: Written comments and recommendations for this information collection should be sent within 30 days of publication of this notice to www.reginfo.gov/public/do/PRAMain. Find this particular information collection by selecting “Currently under Review—Open for Public Comments” or by using the search function.

FOR FURTHER INFORMATION CONTACT: Zenaida Delgado, Procurement Analyst, at telephone 202-969-7207, or zenaida.delgado@gsa.gov.

SUPPLEMENTARY INFORMATION:

A. OMB Control Number, Title, and Any Associated Form(s)

9000-0157, Architect-Engineer Qualifications, SF-330.

B. Need and Uses

This clearance covers the information that offerors must submit to comply with the following Federal Acquisition Regulation (FAR) requirement:

Standard Form (SF) 330, Architect-Engineer Qualifications. As specified in FAR 36.702(b), an architect-engineer firm must provide information about its qualifications for a specific contract when the contract amount is expected to exceed the simplified acquisition threshold (SAT).

Part I—Contract-Specific Qualifications. The information on the form is reviewed by a selection panel composed of professionals and assists the panel in selecting the most qualified architect-engineer firm to perform the specific project. The form is designed to provide a uniform method for architect-engineer firms to submit information on experience, personnel, and capabilities of the architect-engineer firm to perform along with information on the consultants they expect to collaborate with on the specific project. Part I of the SF 330 may be used when the contract amount is expected to be at or below the SAT, if the contracting officer determines that its use is appropriate.

Part II—General Qualifications. The information obtained on this form is used to determine if a firm should be solicited for architect-engineer projects. Architect-engineer firms are encouraged to update the form annually. Part II of the SF 330 is used to obtain information from an architect-engineer firm about its general professional qualifications.

The SF 330 accomplishes the following:

• Expands essential information about qualifications and experience data including:

• An organizational chart of all participating firms and key personnel.

• For all key personnel, a description of their experience in 5 relevant projects.

• A description of each example project performed by the project team (or some elements of the project team) and its relevance to the agency's proposed contract.

• A matrix of key personnel who participated in the example projects. This matrix graphically illustrates the degree to which the proposed key personnel have worked together before on similar projects.

• Reflects current architect-engineer disciplines, experience types and technology.

• Permits limited submission length thereby reducing costs for both the architect-engineer industry and the Government. Lengthy submissions do not necessarily lead to a better decision on the best-qualified firm. The proposed SF 330 indicates that agencies may limit the length of a firm's submissions, either certain sections or the entire package. The Government's right to impose such limitations was established in case law (Coffman Specialties, Inc., B-284546. N-284546/2, 2000 U.S. Comp. Gen. LEXIS 58, May 10, 2000).

The contracting officer uses the information provided on the SF 330 to evaluate firms to select an architect-engineer firm for a contract.

C. Annual Burden

Respondents: 682.

Total Annual Responses: 2,728.

Total Burden Hours: 79,112.

D. Public Comment

A 60-day notice was published in the Federal Register at 88 FR 60209, on August 31, 2023. Two identical comments were received in Regulations.gov but not posted to be publicly viewable because they were not relevant or responsive to the request for comments. The identical comments seem to be unsolicited bulk email.

Obtaining Copies: Requesters may obtain a copy of the information collection documents from the GSA Regulatory Secretariat Division, by calling 202-501-4755 or emailing GSARegSec@gsa.gov. Please cite OMB Control No. 9000-0157, Architect-Engineer Qualifications (SF-330).

Janet Fry,
Director, Federal Acquisition Policy Division, Office of Governmentwide Acquisition Policy, Office of Acquisition Policy, Office of Governmentwide Policy.

[FR Doc. 2023-25031 Filed 11-13-23; 8:45 am]

BILLING CODE 6820-EP-P